DEPARTMENT OF DEFENSE

Department of the Army

32 CFR Part 518

[Docket ID: USA-2017-HQ-0006]

RIN 0702-AA79

The Freedom of Information Act Program

AGENCY: Department of the Army, DoD.

ACTION: Final rule.

SUMMARY: This final rule removes the Department of the Army's regulation concerning the Freedom of Information Act program. On February 6, 2018, the DoD published a revised FOIA program rule as a result of the FOIA Improvement Act of 2016. When the DoD FOIA program rule was revised, it included DoD component information and removed the requirement for component supplementary rules. The DoD now has one DoD-level rule for the FOIA program that contains all the codified information required for the Department.

DATES: This rule is effective on April 19, 2018.

FOR FURTHER INFORMATION CONTACT: Alecia Bolling at 703-428-6081.

SUPPLEMENTARY INFORMATION: It has been determined that publication of this CFR part removal for public comment is impracticable, unnecessary, and contrary to public interest since it is based on removing Army's internal policies and procedures that are publically available on the Army's website.

The Department of the Army's internal guidance concerning the implementation of the FOIA within the Department of the Army will continue to be published in Army Regulation 25-55 (available at http://www.apd.army.mil/epubs/DR_pubs/DR_a/pdf/web/r25_55.pdf).

This rule is one of 14 separate DoD FOIA rules. With the finalization of the DoD-level FOIA rule at 32 CFR part 286, the Department is eliminating the need for this separate FOIA rule and reducing costs to the public as explained in the preamble of the DoD-level FOIA rule published at 83 FR 5196-5197.

This rule is not significant under Executive Order (E.O.) 12866, “Regulatory Planning and Review,” therefore, E.O. 13771, “Reducing Regulation and Controlling Regulatory Costs” does not apply.

List of Subjects in 32 CFR Part 518

Administrative practice and procedure, Freedom of information.

PART 518—[REMOVED]

Accordingly, by the authority of 5 U.S.C. 301, 32 CFR part 518 is removed.

Dated: April 13, 2018.
Brenda S. Bowen,
Army Federal Register Liaison Officer.

[FR Doc. 2018-08204 Filed 4-18-18; 8:45 am]

BILLING CODE 5001-03-P